NATIONAL AERONAUTICS AND SPACE ADMINISTRATION

[Notice (04-001)]

NASA Advisory Council, Education Advisory Committee; Meeting

AGENCY: National Aeronautics and Space Administration.

ACTION: Notice of meeting.

SUMMARY: In accordance with the Federal Advisory Committee Act, Public Law 92-463, as amended, the National Aeronautics and Space Administration announces a meeting of the NASA Advisory Council, Education Advisory Committee.

DATES: Wednesday, February 18, 2004, 8:30 a.m. to 5:30 p.m., Thursday, February 19, 2004, from 8:30 a.m. to 12:15 p.m.

ADDRESSES: National Aeronautics and Space Administration, 300 E Street, SW, ROOM MIC-6, Washington, DC 20546.

FOR FURTHER INFORMATION CONTACT: Ms. Mei Mei Peng, Code N, National Aeronautics and Space Administration, Washington, DC, 20546, 202/358-1614.

SUPPLEMENTARY INFORMATION: The meeting will be open to the public up to the seating capacity of the room. The agenda for the meeting is as follows:

• Opening Remarks by the Education Advisory Committee Chairman and NASA Deputy Administrator

• Introduction of Education Advisory Committee members

• Overview of the NASA Education Enterprise and Strategy by the Associate Administrator for Education

• Education highlights and issues by Division Directors and Enterprise Leads

• Open discussion and action assignments

• Next Meeting

• Closing Comments

Attendees will be requested to sign a register and to comply with NASA security requirements, including the presentation of a valid picture ID, before receiving an access badge. Foreign nationals attending this meeting will be required to provide the following information: Full name; gender; date/place of birth; citizenship; visa/greencard information (number, type, expiration date); employer/affiliation information (name of institution, address, county, phone); title/position of attendee. To expedite admittance, attendees can provide identifying information in advance by contacting Ms. Mei Mei Peng via e-mail at mpeng@hq.nasa.gov or by telephone at (202) 358-1614. Persons with disabilities who require assistance should indicate this.

It is imperative that the meeting be held on this date to accommodate the scheduling priorities of the key participant.

Michael F. O'Brien,
Assistant Administrator for External Relations, National Aeronautics and Space Administration.

[FR Doc. 04-469 Filed 1-8-04; 8:45 am]

BILLING CODE 7510-01-P